DEPARTMENT OF JUSTICE

Drug Enforcement Administration

Manufacturer of Controlled Substances; Notice of Application; Correction

By notice dated July 21, 2004, and published in the Federal Register on August 10, 2004 (69 FR 48522), Dade Behring Inc., Route 896 Corporate Boulevard, Building 100, Attention: RA/QA, Post Office Box 6101, Newark, Delaware 19717 made application by renewal to the Drug Enforcement Administration (DEA) to be registered as a bulk manufacturer, and to modify its address. The address modification was inadvertently omitted. The state of Delaware renamed the road where the facility is located, thus causing the address to change. The address should be modified to read: Dade Behring Inc., 100 GBC Drive MS514, Post Office Box 6101, Attention: RA/QS, Newark, Delaware 19714-6101.

Dated: March 29, 2005.
William J. Walker,
Deputy Assistant Administrator, Office of Diversion Control, Drug Enforcement Administration.

[FR Doc. 05-6789 Filed 4-5-05; 8:45 am]

BILLING CODE 4410-09-P